DEPARTMENT OF COMMERCE

International Trade Administration

[A-570-888]

Floor-Standing, Metal-Top Ironing Tables and Certain Parts Thereof From the People's Republic of China: Notice of Amended Final Results of Antidumping Duty Administrative Reviews Pursuant to Settlement; 2004-2005 and 2006-2007

AGENCY: Enforcement and Compliance, International Trade Administration, Department of Commerce.

SUMMARY: The Department of Commerce (the Department) is amending the final results of the February 3, 2004-July 31, 2005 and August 1, 2005-July 31, 2006 antidumping duty administrative reviews of floor-standing, metal-top ironing tables and certain parts thereof from the People's Republic of China (PRC) with respect to Since Hardware (Guangzhou) Co., Ltd. (Since Hardware) pursuant to an agreement that settles the related litigation.

DATES: Effective January 5, 2017.

FOR FURTHER INFORMATION CONTACT: Michael J. Heaney or Erin Kearney, AD/CVD Operations, Office VI, Enforcement and Compliance, International Trade Administration, U.S. Department of Commerce, 14th Street and Constitution Avenue NW., Washington, DC 20230; telephone: (202) 482-4475 or (202) 482-0167, respectively.

SUPPLEMENTARY INFORMATION:

Background

On August 6, 2004, the Department published the antidumping duty order on floor standing, metal top ironing tables and certain parts thereof.¹ On April 19, 2007, the Department published the amended final results of the February 3, 2004-July 31, 2005 administrative review.² On, March 18, 2008, the Department published the final results of the August 1, 2005-July 31, 2006 administrative review.³

¹ See Notice of Amended Final Determination of Sales at Less Than Fair Value and Antidumping Duty Order: Floor Standing, Metal-Top Ironing Tables and Certain Parts Thereof from the People's Republic of China, 69 FR 47868 (August 6, 2004) (Order).

² See Floor-Standing, Metal-Top Ironing Tables and Certain Parts Thereof from the People's Republic of China: Final Results and Final Rescission, In Part, of Antidumping Duty Administrative Review, 72 FR 13239 (Dep't of Commerce Mar. 21, 2007), amended by Notice of Amended Final Results of Antidumping Duty Administrative Review: Floor Standing, Metal-Top Ironing Tables and Certain Parts Thereof from the People's Republic of China, 72 FR 19689 (April 19, 2007) (February 3-2004-July 31, 2005 Amended Final Results).

³ See Floor Standing, Metal-Top Ironing Tables and Certain Parts Thereof from the People's Republic of China: Final Results of Antidumping Duty Administrative Review 73 FR 14437 (March 18, 2008) August 1, 2005-July 31, 2006 Final Results).

Following the publication of the February 3, 2004-July 31, 2005 Amended Final Results, and the August 1, 2005-July 31, 2006 Final Results, Since Hardware filed lawsuits with the CIT challenging the Department's final results of both the February 3, 2004-July 31, 2005 and the August 1, 2005-July 31, 2006 administrative reviews. The United States and Since Hardware have entered into an agreement to settle the outstanding litigation. The Court issued its Judgment on December 8, 2016.⁴

⁴ See Home Products International, Inc. v. United States, Court Nos. 07-00123, 08-00094 (December 8, 2016).

Assessment of Duties

Pursuant to the Court's Judgment, the Department shall instruct Customs and Border Protection (CBP) to assess antidumping duties on all shipments of floor-standing, metal-top ironing tables and certain parts thereof, from the PRC, which were entered, or withdrawn from warehouse, for consumption during the period February 3, 2004-July 31, 2005, and that were produced or exported by Since Hardware at a rate of 72.29 percent. The Department shall also instruct CBP to assess antidumping duties on all shipments of floor-standing, metal-top ironing tables and certain parts thereof, from the PRC, which were entered, or withdrawn from warehouse, for consumption during the period August 1, 2005-July 31, 2006, and that were exported by Since Hardware at a rate of 72.29 percent. The Department intends to issue assessment instructions to CBP within 15 days after the date of publication of these amended final results of the reviews in the Federal Register.

Cash Deposit Requirements

Because Since Hardware has a superseding review,⁵ these amended finals do not establish a revised cash deposit rate for Since Hardware.

⁵ See Floor-Standing, Metal-Top Ironing Tables and Certain Parts Thereof From the People's Republic of China: Notice of Court Decision Not in Harmony With Final Results and Notice of Amended Final Results of the Antidumping Duty Administrative Review; 2008-2009, 80 FR 36507 (June 25, 2015) (2008-2009 Amended Final Results), assigning Since Hardware a rate of 83.83 percent.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

We are issuing this determination and publishing these amended final results of antidumping duty administrative review pursuant to the Court's Judgment.

Dated: December 29, 2016.
Paul Piquado,
Assistant Secretary for Enforcement and Compliance.

[FR Doc. 2016-31994 Filed 1-4-17; 8:45 am]

BILLING CODE 3510-DS-P